INTERNATIONAL TRADE COMMISSION

Petitions for Duty Suspensions and Reductions: Notice That Comments Received on Previously Filed Petitions Are Available for Viewing on the Commission's Web Site

AGENCY: United States International Trade Commission.

ACTION: Notice that the Commission has published on its Web site comments received from the public on previously submitted petitions for duty suspensions and reductions.

SUMMARY: As required by the American Manufacturing Competitiveness Act of 2016, the Commission is publishing notice that comments received from the public on previously submitted petitions for duty suspensions and reductions are now available for public viewing on the Commission's Web site.

ADDRESSES: All Commission offices are located in the United States International Trade Commission Building, 500 E Street SW., Washington, DC. The public file for this proceeding may be viewed on the Commission's MTBPS at https://www.usitc.gov/mtbps.

FOR FURTHER INFORMATION CONTACT: For general inquiries, contact Jennifer Rohrbach at mtbinfo@usitc.gov. For filing inquiries, contact the Office of Secretary, Docket Services division, U.S. International Trade Commission, telephone (202) 205-3238. The media should contact Peg O'Laughlin, Public Affairs Officer (202-205-1819 or margaret.olaughlin@usitc.gov). General information concerning the Commission may be obtained by accessing its internet server (https://www.usitc.gov).

Background: The American Manufacturing Competitiveness Act of 2016 (the Act), Public Law 114-159, May 20, 2016, 19 U.S.C. 1332 note, established a new process for the submission and consideration of requests for temporary duty suspensions and reductions. Section 3(b)(1) of the Act requires that the Commission initiate the process by publishing a notice requesting members of the public who can demonstrate that they are likely beneficiaries of duty suspensions or reductions to submit petitions and Commission disclosure forms to the Commission. The Commission published this notice in the Federal Register on October 14, 2016 (81 FR 71114). The notice required that petitions be submitted no later than the close of business on December 12, 2016.

Section 3(b)(3)(A) of the Act requires that the Commission, no later than 30 days after the expiration of the period for filing petitions, publish on its Web site the petitions received that contain the information required by the Act; section 3(b)(3)(B) of the Act requires that the Commission, at the same time, publish a notice in the Federal Register requesting members of the public to submit comments to the Commission on the petitions published on the Commission's Web site. The Commission published the petitions received on its Web site effective January 11, 2017, and published a notice in the Federal Register on January 11, 2017 (82 FR 3357) requesting members of the public to submit comments on those petitions no later than the close of business on February 24, 2017.

Section 3(b)(3)(B)(ii) of the Act requires that the Commission publish notice in the Federal Register directing members of the public to a publicly available Commission Web site to view the comments received. This notice complies with that requirement. Members of the public may view those comments on the Commission's Web site at https://mtbps.usitc.gov.

The Commission is now in the process of preparing the reports it is required to submit, under sections 3(b)(3)(C) and (E) of the Act, to the House Committee on Ways and Means and the Senate Committee on Finance (Committees) on the petitions for duty suspensions and reductions submitted. The Commission will submit its preliminary report to the Committees in June 2017 and its final report in August 2017. In preparing its reports the Commission will consider the petitions and comments submitted, the report that the U.S. Department of Commerce (Commerce) submits under section 3(c) of the Act (in consultation with U.S. Customs and Border Protection (CBP) and other relevant Federal agencies), and any other information it considers appropriate.

By order of the Commission.
Issued: March 21, 2017.
Lisa R. Barton,
Secretary to the Commission.

[FR Doc. 2017-05875 Filed 3-23-17; 8:45 am]

BILLING CODE 7020-02-P